DEPARTMENT OF ENERGY

Federal Energy Regulatory Commission

[Docket Nos. EL00-95-018, EL00-98-017, ER01-1448-001, ER01-1449-001, ER01-1451-001, ER01-1453-001, ER01-1455-001, ER01-1456-001]

San Diego Gas & Electric Company Complainant, v. Sellers of Energy and Ancillary Services, Respondents, Investigation of Practices of the California Independent System Operator and the California Power Exchange, Duke Energy Trading and Marketing, LLC, Dynegy Power Marketing, Inc., Portland General Electric Company, Reliant Energy Services, Inc., Mirant California, LLC, Mirant Delta, LLC and Mirant Potrero, LLC, Williams Energy Services Corporation; Notice of Proxy Price for February Wholesale Transactions in the California Wholesale Electric Market

March 16, 2001.

On March 9, 2001, the Commission issued an order establishing a proxy market clearing price approach to estimate total potential refunds or offsets in the ISO and PX markets during January through April 2001.¹ The Commission directed the Director of the Office of Markets, Tariffs and Rates to issue a notice of the proxy market clearing price for the month of February. For the month of February, 2001, the proxy price is estimated to result in approximately $55 million of total potential refunds or offsets by public utility sellers. These refunds are based on a proxy market clearing price of $430/MWh.

¹ 94 FERC ¶ 61,245 (The California PX suspended operations at the end of January 2001.)

Following the methodology established by the March 9 order, the proxy price for February is based on:

(1) a combustion turbine with a heat rate of 18,073/Btu/kWh as reported in the three California investor-owned utilities' 1998 FERC Form No. 1;

(2) the average reported midpoint natural gas price for “Southern California Gas Company large package” transactions as reported in Financial Times Energy's “Gas Daily” publication. This price increased 53 percent from January to February 2001 from $12.50/mmBtu to $19.11/mmBtu;

(3) the average NOX allowance costs from the Southern California Air Quality Management District NOX Auction as reported by Cantor Fitzgerald Environmental Brokerage Services. This cost increased 85 percent from January to February 2001 from $22.50/lb. to $41.72/lb.;

(4) an average NOX emissions rate of 2 lbs./MWh as reported by public utility sellers; and

(5) variable O&M costs of $2/MWh as reported by public utility sellers.

The Attachment contains a list of the parties having transactions with the California Independent System Operator during stage 3 hours to which the proxy price applies and the estimated potential refund obligation for each public utility seller. Any final resolution of the amount of refunds that may be due will be determined pursuant to the procedures established by the Commission's March 9, 2001 order in these dockets.

The identified public utility sellers should refer to the Commission's March 9, 2001 Order for a description of procedures and filing requirements.

Daniel L. Larcamp,
Director, Office of Markets, Tariffs and Rates.

Attachment

Transaction information filed by the California Independent System Operator (ISO) is used to identify transactions at prices in excess of the $430/MWh proxy clearing price and to estimate potential refunds. The following is a list of the number of transactions reported by the ISO with a price greater than $430/MWh made during hours in which the ISO called a Stage 3 Emergency and the potential refunds. Since the ISO reported energy transactions in 10 minute increments, sellers may find that the number of transactions listed below is significantly higher than the number of hourly transactions they reported to the Commission.

Duke Energy Trading and Marketing, LLC

[Docket No. ER01-1448-001]

ISO Energy: 20 transactions with a refund potential of $2,107,289

Dynegy Power Marketing Inc.

[Docket No. ER01-1449-001]

ISO Ancillary Services: 328 transaction with a refund potential of $3,235,208

ISO Energy: 2,723 transactions with a refund potential of $20,119,616

Portland General Electric Company

[Docket No. ER01-1451-001]

ISO Out-of-Market: 23 transactions with a refund potential of $73,600

Reliant Energy Services, Inc.

[Docket No. ER01-1453-001]

ISO Energy: 770 transactions with a refund potential of $7,440,999

Mirant California, LLC, Mirant Delta, LLC and Mirant Potrero, LLC

[Docket No. ER101-1455-001]

ISO Energy: 286 transactions with a refund potential of $826,111

Williams Energy Services Corporation

[Docket No. ER01-1456-001]

ISO Energy: 7,054 transactions with a refund potential of $21,564,636

Filings regarding the February transactions addressed by this notice should reference the company specific docket numbers listed above.

[FR Doc. 01-7103 Filed 3-21-01; 8:45 am]

BILLING CODE 6717-01-M